DEPARTMENT OF HOUSING AND URBAN DEVELOPMENT

[Docket No. FR-5998-N-10]

60-Day Notice of Proposed Information Collection: Implementation Phase Evaluation of LGBTQ Youth Homelessness Prevention Initiative

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 22, 2018.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Rachel Duplessis, Program Specialist, SNAP, Department of Housing and Urban Development, 451 7th Street SW., Washington, DC 20410; email Rachel Duplessis at Rachel.k.duplessis@hud.gov or telephone 202-402-3400. This is not a toll-free number. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

A. Overview of Information Collection

Title of Information Collection: Implementation Phase Evaluation of LGBTQ Youth Homelessness Prevention Initiative.

OMB Approval Number: NA.

Type of Request: New.

Form Number: NA.

Description of the need for the information and proposed use: The LGBTQ Youth Homelessness Prevention Initiative began in the summer of 2013 as part of a federal interagency initiative to prevent homelessness among lesbian, gay, bisexual, transgender and questioning (LGBTQ) youth, and to intervene early when homelessness occurs for these youths. Federal partners from the U.S. Departments of Education, Health, and Juvenile Justice, as well as the U.S. Interagency Council on Homelessness, support this HUD initiative. The initiative supports the federal goal to end youth homelessness and contributes to the development of a model for preventing LGBT youth homelessness that other communities can replicate. Two communities participate in this initiative and receive technical assistance (TA) to support their initiative planning and implementation.

This request for OMB clearance covers the implementation phase which will document the approach and experiences of both communities as they have implemented their local plan. Furthermore, this review will examine the resources required to carry out implementation, what worked well, what challenges emerged and how they were addressed, lessons learned and recommendations both sites offer for potential replication. To produce this information, HUD will collect quantitative and qualitative data from primary sources using four methods: Interviews, surveys, focus groups, and document review. Participants will consist of the local initiative leads as well as individuals involved in local initiative steering committees and subcommittees and community members associated with the initiative.

This is a re-submission of a PRA package that had previously been withdrawn by the Department to undertake additional review. The original 60-day Notice was published on September 20, 2016, and can be found at: https://www.federalregister.gov/documents/2016/09/20/2016-22580/60-day-notice-of-proposed-information-collection-implementation-phase-review-of-the-lesbian-gay.

Respondents (i.e. affected public): Organizations participating in the two local initiatives, including local lead organizations and participants on the local steering committees and subcommittees.

Implementation Phase Interview: Local leads, steering committee members and subcommittee members, community members,

Implementation Phase Focus Group: Local leads, steering committee members and subcommittee members, community members,

Implementation Phase Survey: Local leads, steering committee members and subcommittee members, community members.

Information collection | Number of respondents | Frequency of response | Responses per annum | Burden hour per response | Annual burden hours | Hourly cost per response | Annual cost
Interviews | 30 | 1 | 30 | 1 | 30 | $30.54 | $916.2
Focus Group | 48 | 1 | 48 | 1 | 48 | 30.54 | 1465.92
Survey | 96 | 1 | 96 | .25 | 24 | 30.54 | 732.96
Total | 174 | 1 | 174 |  | 102 | 30.54 | 3115.08

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: October 12, 2017.
Neal Rackleff,
Assistant Secretary, Community Planning and Development.

[FR Doc. 2017-25119 Filed 11-20-17; 8:45 am]

BILLING CODE 4210-67-P